DEPARTMENT OF AGRICULTURE

Designation for the Jamestown, North Dakota; Lincoln, Nebraska; and Memphis, Tennessee Areas

AGENCY: Agricultural Marketing Service, USDA.

ACTION: Notice.

SUMMARY: AMS is announcing the designations of Grain Inspection, Inc. (Jamestown); Lincoln Grain Inspection Service, Inc. (Lincoln); and Midsouth Grain Inspection Service (Midsouth) to provide official services under the United States Grain Standards Act (USGSA), as amended. The realignment of offices within the U.S. Department of Agriculture authorized by the Secretary's Memorandum dated November 14, 2017, eliminates the Grain Inspection, Packers and Stockyard Administration (GIPSA) as a standalone agency. The grain inspection activities formerly part of GIPSA are now organized under AMS.

DATES: Applicable Date: April 1, 2018.

ADDRESSES: Mark Wooden, Compliance Officer, USDA, AMS, FGIS, QACD, 10383 North Ambassador Drive, Kansas City, MO 64153.

FOR FURTHER INFORMATION CONTACT: Mark Wooden, 816-659-8413, Mark.J.Wooden@ams.usda.gov or FGISQACD@ams.usda.gov.

Read Applications: All applications and comments are available for public inspection at the office above during regular business hours (7 CFR 1.27(c)).

SUPPLEMENTARY INFORMATION: In the September 5, 2017, Federal Register (82 FR 41911-41914), GIPSA requested applications for designation to provide official services in the geographic areas serviced by Jamestown, Lincoln, and Midsouth. Applications were due by October 5, 2017.

The current official agencies, Lincoln and Midsouth, were the only applicants for designation to provide official services in their respective areas. As a result, GIPSA did not ask for additional comments.

The current official agency, Jamestown, applied for most of the territory within its current geographic area except for a small eastern portion. North Dakota Grain Inspection Service, Inc. (North Dakota) applied for the small eastern portion of Jamestown's territory.

AMS evaluated the designation criteria in section 7(f) of the USGSA (7 U.S.C. 79(f)) and determined that Jamestown, Lincoln, Midsouth, and North Dakota are qualified to provide official services in the geographic areas specified in the Federal Register on September 5, 2017. These designations to provide official services in the specified areas of Lincoln and Midsouth are effective April 1, 2018, to March 31, 2023.

The designation to provide official services in the specified area by Jamestown is effective April 1, 2018, to March 31, 2023. Jamestown's geographic area is amended as follows:

Jamestown

Pursuant to Section 7(f)(2) of the USGSA, the following geographic area, in the States of Minnesota and North Dakota, is assigned to this official agency.

In Minnesota

Traverse, Grant, Douglas, Todd, Morrison, Mille Lacs, Kanabec, Pine, Big Stone, Stevens, Pope, Stearns, Benton, Isanti, Chisago, Swift, Kandiyohi, Meeker, Wright, Sherburne, Anoka, Lac Qui Parle, and Chippewa Counties.

In North Dakota

Bounded on the north by Interstate 94 east to U.S. Route 85; U.S. Route 85 north to State Route 200; State Route 200 east to U.S. Route 83; U.S. Route 83 southeast to State Route 41; State Route 41 north to State Route 200; State Route 200 east to State Route 3; State Route 3 north to the northern Wells County line, the northern Wells and Eddy County lines east; the eastern Eddy County line south to the northern Griggs County line; the northern Griggs county line east to State Route 32; bounded on the east by State Route 32 south to State Route 45; State Route 45 south to State Route 200; State Route 200 west to State Route 1; State Route 1 south to Interstate 94; Interstate 94 East to State Route 1; State Route 1 south to the Dickey County line; bounded on the South by the southern Dickey County line west to U.S. Route 281; U.S. Route 281 north to the Lamoure County line; the southern Lamoure County line; the southern Logan County line west to State Route 13; State Route 13 west to U.S. Route 83; U.S. Route 83 south to the Emmons County line; the southern Emmons County line; the southern Sioux County line west to State Route 49; State Route 49 north to State Route 21; State Route 21 west to the Burlington-Northern line; the Burlington-Northern line northwest to State Route 22; State Route 22 south to U.S. Route 12; U.S. Route 12 west-northwest to the North Dakota State line; and bounded on the west by the western North Dakota State line north to Interstate 94.

The following grain elevators are not part of this geographic area assignment and are assigned to Minot Grain Inspection, Inc.: Benson Quinn Company, Underwood, McLean County and SRS Commodities, Washburn, McLean County, North Dakota.

The designation to provide official services in the specified area by North Dakota remains effective from January 1, 2016, to December 31, 2020. North Dakota's geographic area is amended effective April 1, 2018, as follows:

North Dakota

Pursuant to Section 7(f)(2) of the USGSA, the following geographic area, in the States of Illinois, Indiana, Michigan, Minnesota, North Dakota, and Ohio is assigned to this official agency.

In Illinois

Bounded on the east by the eastern Cumberland County line; the eastern Jasper County line south to State Route 33; State Route 33 east-southeast to the Indiana-Illinois State line; the Indiana-Illinois State line south to the southern Gallatin County line; bounded on the south by the southern Gallatin, Saline, and Williamson County lines; the southern Jackson County line west to U.S. Route 51; U.S. Route 51 north to State Route 13; State Route 13 northwest to State Route 149; State Route 149 west to State Route 3; State Route 3 northwest to State Route 51; State Route 51 south to the Mississippi River; and bounded on the west by the Mississippi River north to the northern Calhoun County line; bounded on the north by the northern and eastern Calhoun County lines; the northern and eastern Jersey County lines; the northern Madison County line; the western Montgomery County line north to a point on this line that intersects with a straight line, from the junction of State Route 111 and the northern Macoupin County line to the junction of Interstate 55 and State Route 16 (in Montgomery County); from this point southeast along the straight line to the junction of Interstate 55 and State Route 16; State Route 16 east-northeast to a point approximately 1 mile northeast of Irving; a straight line from this point to the northern Fayette County line; the northern Fayette, Effingham, and Cumberland County lines.

In Indiana

Bartholomew, Blackford, Boone, Brown, Carroll (south of State Route 25), Cass, Clinton, Delaware, Fayette, Fulton (bounded on east by eastern Fulton County line south to State Route 19; State Route 19 south to State Route 114; State Route 114 southeast to eastern Fulton County line), Grant, Hamilton, Hancock, Hendricks, Henry, Howard, Jay, Johnson, Madison, Marion, Miami, Monroe, Montgomery, Morgan, Randolph, Richmond, Rush (north of State Route 244), Shelby, Tipton, Union, and Wayne Counties.

In Michigan

Bounded on the west by State Route 127 at the Michigan-Ohio State line north to State Route 50; bounded on the north by State Route 50 at State Route 127 east to the Michigan State line; the Michigan state line south to the Michigan-Ohio State line.

In Minnesota

Koochiching, St. Louis, Lake, Cook, Itasca, Norman, Mahnomen, Hubbard, Cass, Clay, Becker, Wadena, Crow Wing, Aitkin, Carlton, Wilkin, and Otter Tail Counties, except those export port locations within the State, which are serviced by AMS.

In North Dakota

Bounded on the north by the northern Steele County line from State Route 32 east; the northern Steele and Trail County lines east to the North Dakota State line; bounded on the east by the eastern North Dakota State line; bounded on the south by the southern North Dakota State line west to State Route 1; and bounded on the west by State Route 1 north to Interstate 94; Interstate 94 west to State Route 1; State Route 1 north to State Route 200; State Route 200 east to State Route 45; State Route 45 north to State Route 32; State Route 32 north.

In Ohio

The northern Ohio State line east to the to the Ohio-Pennsylvania State line; bounded on the east by the Ohio-Pennsylvania State line south to the Ohio River; bounded on the south by the Ohio River south-southwest to the western Scioto County line; and bounded on the west by the western Scioto County line north to State Route 73; State Route 73 northwest to U.S. Route 22; U.S. Route 22 west to U.S. Route 68; U.S. Route 68 north to Clark County; the northern Clark County line west to Valley Pike Road; Valley Pike Road north to State Route 560; State Route 560 north to U.S. 36; U.S. 36 west to eastern Miami County Line; eastern Miami County line to Northern Miami County line; Northern Miami County line west to Interstate 75; Interstate 75 north to State Route 47; State Route 47 northeast to U.S. Route 68 (including all of Sidney, Ohio); U.S. Route 68 north to the southern Hancock County line; the southern Hancock County line west to the western Hancock, Wood and Lucas County lines north to the Michigan-Ohio State line; the Michigan-Ohio State line west to State Route 127; plus all of Darke County.

North Dakota's assigned geographic area does not include the export port locations inside the State of Ohio area which are serviced by AMS.

The following grain elevators are not part of this geographic area assignment and are assigned to Titus Grain Inspection, Inc.: The Andersons, Delphi, Carroll County; Frick Services, Inc., Leiters Ford, Fulton County; and Cargill, Inc., Linden, Montgomery County, Indiana.

Interested persons may obtain official services by contacting these agencies at the following telephone numbers:

Official agency | Headquarters location and telephone | Designation start | Designation end
Jamestown | Jamestown, ND, 701-252-1290 | 4/1/2018 | 3/31/2023
Lincoln | Lincoln, NE, 402-435-4386 | 4/1/2018 | 3/31/2023
Midsouth | Memphis, TN, 901-942-3216 | 4/1/2018 | 3/31/2023
North Dakota | Fargo, ND, 701-293-7420 | 1/1/2016 | 12/31/2020

Section 7(f) of the USGSA authorizes the Secretary to designate a qualified applicant to provide official services in a specified area after determining that the applicant is better able than any other applicant to provide such official services (7 U.S.C. 79 (f)).

Dated: April 13, 2018.
Greg Ibach,
Under Secretary, Marketing and Regulatory Programs.

[FR Doc. 2018-08102 Filed 4-17-18; 8:45 am]

BILLING CODE 3410-02-P